NUCLEAR REGULATORY COMMISSION

Sunshine Federal Register Notice

Agency Holding the Meetings: Nuclear Regulatory Commission.

Date: Week of February 16, 2009.

Place: Commissioners' Conference Room, 11555 Rockville Pike, Rockville, MD.

Status: Public and closed.

Additional Items To Be Considered:

Week of February 16, 2009

Tuesday, February 17, 2009

1:25 p.m. Affirmation Session (Public Meeting) (Tentative).

a. Final Rule: Consideration of Aircraft Impacts for New Nuclear Power Reactors (RIN 3150-AI19) (Tentative).

b. Final Rule: 10 CFR Part 63, “Implementation of a Dose Standard After 10,000 Years” (RIN 3150-AH68) (Tentative).

c. Tennessee Valley Authority (Bellefonte Nuclear Power Plant Units 3 and 4), LBP-08-16 (Ruling on Standing, Hearing Petition Timeliness, and Contention Admissibility) (Sept. 12, 2008) (Tentative).

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at rohn.brown@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to darlene.wright@nrc.gov.

Dated: February 10, 2009.
Rochelle C. Bavol,
Office of the Secretary.

[FR Doc. E9-3278 Filed 2-11-09; 4:15 pm]

BILLING CODE 7590-01-P